DEPARTMENT OF JUSTICE

Antitrust Division

Notice Pursuant to the National Cooperative Research and Production Act of 1993; Multiservice Switching Forum

Notice is hereby given that, on June 29, 2000, pursuant to section 6(a) of the National Cooperative Research and Production Act of 1993, 15 U.S.C. 4301 et seq. (“the Act”), Multiservice Switching Forum (“MSF”) has filed written notifications simultaneously with the Attorney General and the Federal Trade Commission disclosing changes in its membership status. The notifications were filed for the purpose of extending the Act's provisions limiting the recovery of antitrust plaintiffs to actual damages under specified circumstances. Specifically, Accelerated Networks, Moorpark, CA; Oki Electric, Chiba, Japan; and Swisscom AG, Berne, Switzerland have been added as parties to this venture. Vertex Networks, San Jose, CA has been dropped as a party to this venture. Also, the following parties have changed their names: Hewlett Packard, Edinburgh, Scotland, United Kingdom is now Agilent, Edinburgh, Scotland, United Kingdom; Harris & Jeffries, Dedham, MA is now NetPlane, Dedham, MA; and MCIWorldCom, Richardson, TX is now WorldCom, Richardson, TX.

No other changes have been made in either the membership or planned activity of the group research project. Membership in this group research project remains open, and MSF intends to file additional written notifications disclosing all changes in membership.

On January 22, 1999, MSF filed its original notification pursuant to Section 6(a) of the Act. The Department of Justice published a notice in the Federal Register pursuant to Section 6(b) of the Act on May 26, 1999 (64 FR 28519).

The last notification was filed with the Department on April 6, 2000. A notice for this filing has not yet been published in the Federal Register.

Constance K. Robinson,
Director of Operations, Antitrust Division.

[FR Doc. 00-25720 Filed 10-5-00; 8:45 am]

BILLING CODE 4410-11-M